DEPARTMENT OF THE INTERIOR

National Park Service

Ecological Restoration Plan, Final Environmental Impact Statement, Bandelier National Monument, New Mexico

AGENCY: National Park Service, Department of the Interior.

ACTION: Notice of Availability of the Final Environmental Impact Statement for the Ecological Restoration Plan, Bandelier National Monument.

SUMMARY: Pursuant to the National Environmental Policy Act of 1969, 42 U.S.C. 4332(2)(C), the National Park Service announces the availability of a Final Environmental Impact Statement for the Ecological Restoration Plan for Bandelier National Monument, New Mexico. Alternative B was selected as the park's preferred alternative; it maximizes work efficiency and minimizes resource impacts by implementing restoration treatments in the most systematic and timely fashion possible given available funding. The purpose of the Ecological Restoration Plan is to re-establish healthy, sustainable vegetative conditions within the pinon-juniper woodland and to mitigate soil erosion that threatens the cultural resources for which Bandelier National Monument was established and specifically set aside to preserve.

DATES: The National Park Service will execute a Record of Decision (ROD) no sooner than 30 days following publication by the Environmental Protection Agency of the Notice of Availability of the Final Environmental Impact Statement.

ADDRESSES: Information will be available for public review and comment online at http://parkplanning.nps.gov and in the office of the Superintendent, Darlene Koontz, Bandelier National Monument, 15 Entrance Road, Los Alamos, New Mexico 87544, 505-672-3861, extension 502.

FOR FURTHER INFORMATION CONTACT: John Mack, Chief of Resource Management, Bandelier National Monument, 15 Entrance Road, Los Alamos, New Mexico 87544, 505-672-3861, extension 540, john_mack@nps.gov.

Dated: July 31, 2007.
John T. Crowley,
Acting Regional Director, Intermountain Region, National Park Service.

[FR Doc. E7-15562 Filed 8-8-07; 8:45 am]

BILLING CODE 4312-EW-P